DEPARTMENT OF DEFENSE

Department of the Army

Record of Decision for the Presidio of Monterey Real Property Master Plan Environmental Impact Statement, Monterey, CA

AGENCY: Department of the Army, DoD.

ACTION: Notice of availability.

SUMMARY: The Department of the Army and the Presidio of Monterey (POM) announce the decision to proceed with the Proposed Alternative contained in the Final Environmental Impact Statement (FEIS) for the POM Real Property Master Plan (RPMP), which allows for timely implementation of the POM RPMP, providing the necessary facilities and infrastructure upgrades to meet DoD requirements. Specific details of the decision are captured in the Army's Record of Decision (ROD) for this action. This ROD explains the potential environmental and socioeconomic impacts associated with proposed development at two properties: The POM and the Ord Military Community (OMC). This alternative provides the proper balance of initiatives for the protection of environmental resources and mission essential actions. The ROD also identifies mitigation that will reduce or eliminate adverse impacts.

ADDRESSES: Written requests to obtain a copy of the ROD can be addressed to: U.S. Army Garrison, Directorate of Public Works, Master Planning Division (Attention: Mr. Robert Guidi), P.O. Box 5004, Presidio of Monterey, CA 93944-5004 or send email requests to: robert.g.guidi@us.army.mil. For media inquiries, please contact Mr. Daniel Carpenter, Presidio of Monterey Public Affairs, at presidiopao@gmail.com.

FOR FURTHER INFORMATION CONTACT: Please contact Mr. John Elliot at (831) 242-7777 or by email at john.elliot5@us.army.mil. Additional information may be found at the POM Directorate of Public Works Web site at: http://www.monterey.army.mil/DPW/env_assessment.html.

SUPPLEMENTARY INFORMATION: The POM is located on the Monterey Peninsula between the Cities of Monterey and Pacific Grove and the OMC is located approximately eight miles northeast of the POM and situated within the former Fort Ord military installation adjacent to the City of Seaside. Both properties, collectively referred to as the POM Installation, are located within Monterey County and are in proximity to the Pacific Ocean.

The DoD Foreign Language Proficiency Enhancement Program changes the student-to-instructor ratio and will result in a greater population of students and instructors. The POM needs to train more linguists for deployment throughout the world because current projections indicate a shortfall in personnel properly trained to interface with people of other nations. The existing facilities at the POM neither met current needs nor the projected requirements at the DLIFLC. This fact, coupled with anti-terrorism/force protection requirements, resulted in the need to change the physical landscape at the POM and the OMC.

The ROD incorporates analyses contained in the FEIS for the RPMP, including comments provided during formal comment and review periods. The ROD selects facility improvements and phased construction to maintain and enhance the professional standards established by the Defense Language Institute Foreign Language Center (DLIFLC). Modernization of classrooms, living quarters, and support facilities will help ensure a sustainable mission throughout the foreseeable future.

Under the selected alternative, the majority of new construction and development will be located within the existing central campus at the POM. The POM Barracks Complex Phase I and Phase IV will be constructed. This action places future development of primary and support facilities for the DLIFLC at the POM. The two new barracks and three additional general instruction buildings will be sited to preserve the centralized location of the DLIFLC. No new barracks or instructional buildings are designated for the OMC.

Implementation of this decision is expected to result in direct, indirect, and cumulative impacts to the POM Installation. Environmental impacts are expected to occur as a result of facilities construction and changes in operations. The potential for significant environmental impacts is greatest for aesthetic resources, endangered plant species and associated critical habitat, cultural resources, housing and population, public services (schools), traffic circulation, and water usage. The POM will mitigate adverse effects through a variety of strategies, as described in the FEIS. All practicable means to avoid or minimize environmental harm from the selected alternative have been adopted and a monitoring and enforcement program will be adopted.

The environmentally preferred alternative is the “no action” alternative, but this alternative would not have met mission requirements.

The selected alternative allows for timely implementation of the POM RPMP while providing the necessary facilities and infrastructure upgrades to meet the DoD requirements. This decision provides the proper balance of initiatives for the protection of the environment and supports the U.S. Army's effort to fulfill its mandated mission requirements and provide an exceptional learning environment.

A summary of environmental impacts and rationale for the decision can be found in the ROD, which is available along with the FEIS at http://www.monterey.army.mil/DPW/env_assessment.html.

Brenda S. Bowen,
Army Federal Register Liaison Officer.

[FR Doc. 2014-00153 Filed 1-8-14; 8:45 am]

BILLING CODE 3710-08-P